DEPARTMENT OF TRANSPORTION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on December 23, 1999, [64 FR 72140].

DATES: Comments must be submitted on or before April 10, 2000.

FOR FURTHER INFORMATION CONTACT: Taylor E. Jones, Director, Office of Maritime Labor, Training and Safety, MAR-250, Room 7302, Maritime Administration, 400 Seventh Street, SW, Washington, DC 20590, telephone number 202-366-5755 or fax 202-493-2288. Copies of this collection can also be obtained from that office.

SUPPLEMENTARY INFORMATION: Maritime Administration.

Title of Collection: “Maritime Administration Service Obligation Compliance Report and Merchant Marine Reserve, U.S. Naval Reserve (USNR), Annual Report.”

OMB Control Number: 2133-0509.

Type of Request: Approval of an existing information collection.

Affected Public: Every student and graduate of the USMMA and subsidized State maritime academies.

Form(s): MA-930.

Abstract: In accordance with the Maritime Education and Training Act of 1980, Public Law 96-453, every student and graduate of the U.S. Merchant Marine Academy, and subsidized State maritime academies incur a mandatory service obligation in the U.S. merchant marine. This collection of information is necessary to determine if a graduate of the USMMA or a subsidized State maritime academy is complying with the requirement to submit annually the form MA-930 to MARAD. This form is used to determine if a graduate has complied with the terms of the service obligation for that year.

Annual Estimated Burden Hours: 1500.

ADDRESSES: Send comments to the Office of Information and Regulatory Affairs, Office of Management and Budget, 725—17th Street, NW, Washington, DC 20503, Attention MARAD Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Issued in Washington, DC on March 6, 2000.
Joel C. Richard,
Secretary, Maritime Administration.

[FR Doc. 00-5898 Filed 3-9-00; 8:45 am]

BILLING CODE 4910-81-P